DEPARTMENT OF ENERGY

Federal Energy Regulatory Commission

[Project No. 2586-024]

Alabama Electric Cooperative, Inc.; Notice of Settlement Agreement and Soliciting Comments

April 15, 2005.

Take notice that the following settlement agreement has been filed with the Commission and is available for public inspection.

a. Type of Application: Settlement agreement.

b. Project No.: 2586-024.

c. Date Filed: April 13, 2005.

d. Applicant: Alabama Electric Cooperative, Inc.

e. Name of Project: Conecuh River Project.

f. Location: The Conecuh River Project is located on the Conecuh River in Covington County, Alabama. The project does not affect Federal lands.

g. Filed Pursuant to: Rule 602 of the Commission's Rules of Practice and Procedure, 18 CFR 385.602.

h. Alabama Electric Cooperative, Inc. (AEC) filed a settlement agreement on behalf of itself and 5 other stakeholders. The purpose of the settlement agreement is to resolve, among the signatories, all issues related to AEC's pending Application for a New License for the Conecuh River Project. The settlement agreement provides measures for flows, lake levels, biological monitoring and adaptive management, water quality monitoring, and recreational access and development. Signatories to the settlement include AEC, Alabama Department of Conservation and Natural Resources, Alabama Rivers Alliance, Conecuh/Sepulga Watershed Alliance, Conecuh-Sepulga Clean Water Partnership, and the United States Fish and Wildlife Service.

i. The settlement agreement is available for review at the Commission in the Public Reference Room or may be viewed on the Commission's Web site at http://www.ferc.gov, using the “e-Library” link. Enter the docket number, excluding the last three digits in the docket number field to access the documents. For assistance, contact FERC Online Support at FERCOnlineSupport@ferc.gov or toll-free at 1-866-208-3676, or for TTY, (202) 502-8659. A copy is also available for inspection and reproduction at the address in item (j).

j. Applicant Contact: Mike Noel (Environmental contact) or Scott Wright (Engineering contact); Alabama Electric Cooperative, Inc.; 2027 East Three Notch Street, P.O. Box 550, Andalusia, AL 36420-0550

k. FERC Contact: Carolyn Holsopple at (202) 502-6407 or carolyn.holsopple@ferc.gov.

l. Deadline for Filing Comments: The deadline for filing comments on the settlement agreement is 20 days from the date of this notice. The deadline for filing reply comments is 30 days from the date of this notice. All documents (original and eight copies) should be filed with: Magalie R. Salas, Secretary, Federal Energy Regulatory Commission, 888 First Street, NE., Washington, DC 20426

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

Register online at http://www.ferc.gov/esubscribenow.htm to be notified via e-mail of new filings and issuances related to this or other pending projects. For assistance, contact FERC Online Support.

Magalie R. Salas,
Secretary.

[FR Doc. E5-1900 Filed 4-21-05; 8:45 am]

BILLING CODE 6717-01-P